DEPARTMENT OF DEFENSE

GENERAL SERVICES ADMINISTRATION

NATIONAL AERONAUTICS AND SPACE ADMINISTRATION

[OMB Control No. 9000-0075; Docket 2015-0055; Sequence 6]

Submission for OMB Review; Government Property

AGENCIES: Department of Defense (DOD), General Services Administration (GSA), and National Aeronautics and Space Administration (NASA).

ACTION: Notice of request for public comments regarding an extension to an existing OMB clearance.

SUMMARY: Under the provisions of the Paperwork Reduction Act, the Regulatory Secretariat Division will be submitting to the Office of Management and Budget (OMB) a request to review and approve an extension of a previously approved information collection requirement concerning government property. A notice was published in the Federal Register at 80 FR 34433 on June 16, 2015. No comments were received.

DATES: Submit comments on or before November 5, 2015.

ADDRESSES: Submit comments regarding this burden estimate or any other aspect of this collection of information, including suggestions for reducing this burden to: Office of Information and Regulatory Affairs of OMB, Attention: Desk Officer for GSA, Room 10236, NEOB, Washington, DC 20503. Additionally submit a copy to GSA by any of the following methods:

• Regulations.gov: http://www.regulations.gov. Submit comments via the Federal eRulemaking portal by searching for Information Collection 9000-0075- Government Property. Select the link “Comment Now” that corresponds with “Information Collection 9000-0075: Government Property”. Follow the instructions provided on the screen. Please include your name, company name (if any), and “Information Collection 9000-0075; Government Property” on your attached document.

• Mail: General Services Administration, Regulatory Secretariat Division (MVCB), 1800 F Street NW., Washington, DC 20405. ATTN: Ms. Flowers/IC 9000-0075.

Instructions: Please submit comments only and cite Information Collection 9000-0075, in all correspondence related to this collection. All comments received will be posted without change to http://www.regulations.gov, including any personal and/or business confidential information provided.

FOR FURTHER INFORMATION CONTACT: Mr. Curtis E. Glover, Sr., Procurement Analyst, Office of Acquisition Policy, GSA 202-501-1448 or email curtis.glover@gsa.gov.

SUPPLEMENTARY INFORMATION:

A. Purpose

Government property, as used in FAR Part 45, means all property owned or leased by the Government. Government property includes both Government-furnished property and contractor-acquired property. Government property includes material, equipment, special tooling, special test equipment, and real property. Government property does not include intellectual property and software.

This part prescribes policies and procedures for providing Government property to contractors; contractors' management and use of Government property; and reporting, redistributing, and disposing of contractor inventory. This clearance covers the following requirements:

(a) FAR 52.245-1(f)(1)(ii) requires contractors to document the receipt of Government property.

(b) FAR 52.245-1(f)(1)(ii)(A) requires contractors to submit report if overages, shortages, or damages and/or other discrepancies are discovered upon receipt of Government-furnished property.

(c) FAR 52.245-1(f)(1)(iii) requires contractors to create and maintain records of all Government property accountable to the contract.

(d) FAR 52.245-1(f)(1)(iv) requires contractors to periodically perform, record, and report physical inventories during contract performance, including upon completion or termination of the contract.

(e) FAR 52.245-1(f)(1)(vii)(B) requires contractors to investigate and report all incidents of Government property loss as soon as the facts become known.

(f) FAR 52.245-1(f)(1)(viii) requires contractors to promptly disclose and report Government property in its possession that is excess to contract performance.

(g) FAR 52.245-1(f)(1)(ix) requires contractors to disclose and report to the Property Administrator the need for replacement and/or capital rehabilitation.

(h) FAR 52.245-1(f)(1)(x) requires contractors to perform and report to the Property Administrator contract property closeout.

(i) FAR 52.245-1(f)(2) requires contractors to establish and maintain source data, particularly in the areas of recognition of acquisitions and dispositions of material and equipment.

(j) FAR 52.245-1(j)(2) requires contractors to submit inventory disposal schedules to the Plant Clearance Officer via the Standard Form 1428, Inventory Disposal Schedule.

(k) FAR 52.245-9(d) requires a contractor to identify the property for which rental is requested.

B. Annual Reporting Burden

Number of Respondents: 11,375.

Responses per Respondent: 1,057.

Total Responses: 12,023,375.

Average Burden Hours per Response: .3092.

Total Burden Hours: 3,717,627.

C. Public Comments

Public comments are particularly invited on: Whether this collection of information is necessary for the proper performance of functions of the Federal Acquisition Regulations (FAR), and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents from the General Services Administration, Regulatory Secretariat Division (MVCB), 1800 F Street NW., Washington, DC 20006, telephone 202-501-4755. Please cite OMB Control No. 9000-0075, Government Property, in all correspondence.

Edward Loeb,
Acting Director, Federal Acquisition Policy Division, Office of Governmentwide Acquisition Policy, Office of Acquisition Policy, Office of Govenrmentwide Policy.

[FR Doc. 2015-25366 Filed 10-5-15; 8:45 am]

BILLING CODE 6820-EP-P